DEPARTMENT OF ENERGY

Federal Energy Regulatory Commission

[Docket No. EG02-39-000, et al.]

Rocky Mountain Power, Inc., et al.; Electric Rate and Corporate Regulation Filings

November 30, 2001.

Take notice that the following filings have been made with the Commission:

1. Rocky Mountain Power, Inc.

[Docket No. EG02-39-000]

Take notice that on November 27, 2001, Rocky Mountain Power, Inc. tendered for filing with the Federal Energy Regulatory Commission (Commission) an application for determination of exempt wholesale generator status pursuant to part 365 of the Commission's regulations.

Rocky Mountain Power is a Montana corporation that will be engaged directly and exclusively in the business of owning and operating all or part of one or more eligible facilities to be located in Hardin, Montana. The eligible facilities will consist of an approximately 110 MW coal-fired single cycle electric generation plant and related interconnection facilities. The output of the eligible facilities will be sold at wholesale or market based rates.

Comment date: December 21, 2001, in accordance with Standard Paragraph E at the end of this notice. The Commission will limit its consideration of comments to those that concern the adequacy or accuracy of the application.

2. Consumers Energy Company

[Docket Nos. ER92-331-010 and ER92-332-010]

Take notice that on November 27, 2001, Consumers Energy Company (Consumers) tendered for filing the following tariff sheets as part of its FERC Electric Tariff No. 5 in compliance with Order No. 614, dealing with tariff sheet designations: Second Revised Volume Original Sheet Nos. 1.00 through 14.00.

The second sheet listed is to have an effective date of June 21, 1993. The remaining sheets are to have an effective date of May 2, 1992.

Copies of these sheets were served upon the Michigan Public Service Commission and upon those on the official service lists in these proceedings.

Comment date: December 18, 2001, in accordance with Standard Paragraph E at the end of this notice.

3. Northeast Utilities Service Company, Select Energy, Inc., and Northeast Generation Company

[Docket Nos. ER96-496-010, ER99-14-007 and ER99-4463-001]

Take notice that on November 27, 2001, Northeast Utilities Service Company (NUSCO), on behalf of The Connecticut Light and Power Company, Western Massachusetts Electric Company, Holyoke Water Power Company, Holyoke Power and Electric Company, and Public Service of New Hampshire (the NU Operating Companies), and Select Energy, Inc. (Select), and Northeast Generation Company (NGC) (collectively, Applicants) jointly filed with the Federal Energy Regulatory Commission an updated market power analysis. This filing serves as the triennial updated market power analysis in Docket Nos. ER96-496-000 for the NU Operating Companies; ER99-3658-000 for Select; and ER99-4463-000 for NGC. In addition, Applicants request the Commission to synchronize their future triennial market power updates.

Comment date: December 18, 2001, in accordance with Standard Paragraph E at the end of this notice.

4. Carolina Power & Light Co. and Florida Power Corporation

[Docket Nos. ER01-1807-007 and ER01-2020-004]

Take notice that on November 26, 2001, Progress Energy, Inc. (Progress Energy), on behalf of Carolina Power & Light Company (CP&L), tendered for filing revised service agreements under CP&L's open access transmission tariff, FERC Electric Tariff, Third Revised Volume No. 3 in compliance with the Commission's June 25, 2001 and September 21, 2001 orders in these proceedings. See Carolina Power & Light Co. and Florida Power Corp., 95 FERC ¶ 61,429 (2001). Progress Energy also tendered for filing an index of Revised Service Agreements and Notices of Cancellation for certain of CP&L's currently-effective service agreements.

Progress Energy respectfully requests that the Revised Service Agreements become effective on the date set forth on the cover sheet for each Revised Service Agreement and that the Notices of Cancellation become effective as of November 26, 2001.

Comment date: December 18, 2001, in accordance with Standard Paragraph E at the end of this notice.

5. New York Independent System Operator, Inc.

[Docket Nos. ER01-3009-002, ER01-3153-002 and EL00-90-002]

Take notice that on November 27, 2001, the New York Independent System Operator, Inc. (NYISO) tendered for filing with the Federal Energy Regulatory Commission (Commission) a compliance filing in accordance with the Commission's October 25, 2001, order in the above-captioned proceedings.

A copy of this filing was served upon all persons designated on the official service list compiled by the Secretary in the above-captioned proceedings.

Comment date: December 18, 2001, in accordance with Standard Paragraph E at the end of this notice.

6. Wisconsin Public Service Corporation

[Docket No. ER02-157-001]

Take notice that on November 27, 2001, Wisconsin Public Service Commission (WPSC) filed a letter withdrawing its October 23, 2001 filing in Docket No. ER02-157-000 as required by the Commission's staff.

Comment date: December 18, 2001, in accordance with Standard Paragraph E at the end of this notice.

7. PacifiCorp

[Docket No. ER02-408-000]

Take notice that on November 27, 2001, PacifiCorp tendered for filing with the Federal Energy Regulatory Commission (Commission) in accordance with 18 CFR part 35 of the Commission's Rules and Regulations, a fully executed Integration and Exchange Agreement (Agreement) dated October 22, 2001 between Seattle City Light and PacifiCorp.

PacifiCorp has requested a November 26, 2001 effective date.

Copies of this filing were supplied to the Washington Utilities and Transportation Commission and the Public Utility Commission of Oregon.

Comment date: December 18, 2001, in accordance with Standard Paragraph E at the end of this notice.

8. Exelon Generation Company, LLC

[Docket No. ER02-409-000]

Take notice that on November 27, 2001, Exelon Generation Company, LLC (Exelon Generation), submitted for filing a power sales service agreement between Exelon Generation and Aquila Energy Marketing Corporation, under Exelon Generation's wholesale power sales tariff, FERC Electric Tariff Original Volume No. 2.

Comment date: December 18, 2001, in accordance with Standard Paragraph E at the end of this notice.

9. Florida Power Corporation

[Docket No. ER02-410-000]

Take notice that on November 27, 2001, Florida Power Corporation (FPC) filed a Service Agreement with Exelon Generation Company, LLC under FPC's Short-Form Market-Based Wholesale Power Sales Tariff (SM-1), FERC Electric Tariff No. 10.

FPC is requesting an effective date of November 1, 2001 for this Agreement.

A copy of this filing was served upon the Florida Public Service Commission and the North Carolina Utilities Commission.

Comment date: December 18, 2001, in accordance with Standard Paragraph E at the end of this notice.

10. Southern Company Services, Inc.

[Docket No. ER02-411-000]

Take notice that on November 27, 2001, Southern Company Services, Inc. (SCS), acting on behalf of Alabama Power Company, Georgia Power Company, Gulf Power Company, Mississippi Power Company, and Savannah Electric and Power Company (collectively referred to as Southern Companies), filed one (1) agreement for network integration transmission service between Southern Companies and Generation Energy Marketing, a Department of SCS, as agent for Mississippi Power Company, under the Open Access Transmission Tariff of Southern Companies (FERC Electric Tariff, Fourth Revised Volume No. 5). Under this agreement, power will be delivered to the South Mississippi Electric Power Association's Coastal EPA Cedar Lake Delivery Point. Additionally, the agreement provides for Generation Energy Marketing to pay the Direct Assignment Facilities Charges specified in the agreement. This agreement is being filed in conjunction with a power sale by SCS, as agent for Mississippi Power Company, to the South Mississippi Electric Power Association under Southern Companies' Market-Based Rate Power Sales Tariff, as was approved in FERC Docket No. ER01-1284-000.

Comment date: December 18, 2001, in accordance with Standard Paragraph E at the end of this notice.

11. American Transmission Company LLC

[Docket No. ER02-412-000]

Take notice that on November 27, 2001, American Transmission Company LLC (ATCLLC) tendered for filing an executed Distribution-Transmission Interconnection Agreement between ATCLLC and the City of Wisconsin Rapids.

ATCLLC requests an effective date of July 26, 2001.

Comment date: December 18, 2001, in accordance with Standard Paragraph E at the end of this notice.

12. Arizona Public Service Company

[Docket No. ER02-413-000]

Take notice that on November 27, 2001 , Arizona Public Service Company (APS) tendered for filing a cancellation of APS FERC Rate Schedule No. 231, a Wholesale Power Agreement between the Colorado River Commission of Nevada and APS.

A copy of this filing has been served on the Colorado River Commission of Nevada and the Arizona Corporation Commission.

Comment date: December 18, 2001, in accordance with Standard Paragraph E at the end of this notice.

13. California Independent System Operator Corporation

[Docket No. ER02-414-000]

Take notice that on November 27, 2001, the California Independent System Operator Corporation (ISO) tendered for filing Second Revised Service Agreement No. 229 Under ISO Rate Schedule No.1, which is a Participating Generator Agreement (PGA) between the ISO and Geysers Power Company, LLC (Geysers). The ISO has revised the PGA to modify the description of generating units contained in Schedule 1 of the PGA, and to modify Schedule 3 of the PGA to reflect the new addresses, phone numbers, and fax numbers for Jacob Rudisill and Calpine's Western Region Office.

The ISO requests that the agreement be made effective as of August 22, 2000.

The ISO states that this filing has been served on all entities that are on the official service list for Docket No. ER99-2820-000, Geysers, and the Public Utilities Commission of the State of California.

Comment date: December 18, 2001, in accordance with Standard Paragraph E at the end of this notice.

14. LG&E Power Monroe LLC

[Docket No. ER02-415-000]

Take notice that on November 27, 2001, LG&E Power Monroe LLC (Power Monroe) tendered for filing a service agreement between Power Monroe and LG&E Energy Marketing Inc. executed pursuant to Power Monroe's FERC Electric Tariff No. 1.

Power Monroe requests an effective date of November 28, 2001.

Copies of the filing were served upon LG&E Energy Marketing Inc.

Comment date: December 18, 2001, in accordance with Standard Paragraph E at the end of this notice.

15. Florida Power Corporation

[Docket No. ER02-416-000]

Take notice that on November 26, 2001, Progress Energy, Inc. (Progress Energy), on behalf of Florida Power Corporation (FPC), tendered for filing revised service agreements (Revised Service Agreements) under FPC's open-access transmission tariff (OATT), FERC Electric Tariff, Second Revised Volume No. 6 (FPC's OATT), to comply with the Commission's June 25, 2001 and September 21, 2001 orders in Carolina Power & Light Co. and Florida Power Corp., 95 FERC ¶ 61,429 (2001). Progress Energy also tendered for filing an index of Revised Service Agreements as filed under FPC's OATT.

Copies of the filing were served upon the Commission's official service list and the North Carolina Utilities Commission, the South Carolina Public Service Commission and the Florida Public Service Commission.

Comment date: December 18, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30320 Filed 12-6-01; 8:45 am]

BILLING CODE 6717-01-P